DEPARTMENT OF TRANSPORTATION

Federal Aviation Administration

14 CFR Part 97

[Docket No. 31392; Amdt. No. 3976]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective October 4, 2021. The compliance date for each SIAP, associated Takeoff Minimums, and ODP is specified in the amendatory provisions.

The incorporation by reference of certain publications listed in the regulations is approved by the Director of the Federal Register as of October 4, 2021.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Information Services, 6500 South MacArthur Blvd., Oklahoma City, OK 73169 or,

4. The National Archives and Records Administration (NARA).

For information on the availability of this material at NARA, email fr.inspection@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends 14 CFR part 97 by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on September 17, 2021.
Thomas J. Nichols,
Aviation Safety, Flight Standards Service, Manager, Standards Section, Flight Procedures & Airspace Group, Flight Technologies & Procedures Division.

Adoption of the Amendment

Accordingly, pursuant to the authority delegated to me, Title 14, CFR part 97, (is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
4-Nov-21 | MD | Gaithersburg | Montgomery County Airpark | 1/0101 | 7/22/21 | RNAV (GPS)-A, Orig-C.
4-Nov-21 | IN | Bloomington | Monroe County | 1/0243 | 9/2/21 | RNAV (GPS) RWY 35, Amdt 1A.
4-Nov-21 | IN | Bloomington | Monroe County | 1/0244 | 9/2/21 | VOR RWY 17, Amdt 12A.
4-Nov-21 | IN | Bloomington | Monroe County | 1/0245 | 9/2/21 | ILS OR LOC/DME RWY 35, Amdt 6B.
4-Nov-21 | IN | Bloomington | Monroe County | 1/0247 | 9/2/21 | VOR/DME RWY 6, Amdt 19B.
4-Nov-21 | NC | Mooresville | Lake Norman Airpark | 1/0278 | 7/22/21 | RNAV (GPS) RWY 14, Amdt 1A.
4-Nov-21 | MI | New Hudson | Oakland Southwest | 1/0286 | 7/20/21 | VOR OR GPS-A, Amdt 3C.
4-Nov-21 | OH | Findlay | Findlay | 1/0490 | 9/7/21 | RNAV (GPS) RWY 36, Amdt 1B.
4-Nov-21 | OH | Findlay | Findlay | 1/0491 | 9/7/21 | RNAV (GPS) RWY 18, Amdt 1A.
4-Nov-21 | OH | Findlay | Findlay | 1/0492 | 9/7/21 | RNAV (GPS) RWY 25, Amdt 1A.
4-Nov-21 | TX | La Porte | La Porte Muni | 1/0642 | 7/20/21 | RNAV (GPS) RWY 30, Amdt 2C.
4-Nov-21 | CO | Aspen | Aspen-Pitkin County/Sardy Fld | 1/0678 | 8/26/21 | LOC/DME-E, Amdt 1B.
4-Nov-21 | CO | Aspen | Aspen-Pitkin County/Sardy Fld | 1/0680 | 8/26/21 | RNAV (GPS)-F, Orig-A.
4-Nov-21 | TX | Odessa | Odessa-Schlemeyer Fld | 1/1183 | 7/19/21 | RNAV (GPS) RWY 20, Orig-A.
4-Nov-21 | TX | Odessa | Odessa-Schlemeyer Fld | 1/1184 | 7/19/21 | RNAV (GPS) RWY 29, Orig-A.
4-Nov-21 | TX | Odessa | Odessa-Schlemeyer Fld | 1/1185 | 7/19/21 | VOR-A, Amdt 7A.
4-Nov-21 | MN | Crookston | Crookston Muni Kirkwood Fld | 1/1340 | 7/20/21 | RNAV (GPS) RWY 13, Orig-A.
4-Nov-21 | MN | Crookston | Crookston Muni Kirkwood Fld | 1/1341 | 7/20/21 | RNAV (GPS) RWY 31, Orig-B.
4-Nov-21 | MN | Crookston | Crookston Muni Kirkwood Fld | 1/1344 | 7/20/21 | VOR/DME RWY 13, Orig-B.
4-Nov-21 | NC | Erwin | Harnett Rgnl Jetport | 1/1350 | 7/22/21 | RNAV (GPS) RWY 23, Amdt 2A.
4-Nov-21 | NC | Erwin | Harnett Rgnl Jetport | 1/1351 | 7/22/21 | RNAV (GPS) RWY 5, Amdt 2B.
4-Nov-21 | NC | Erwin | Harnett Rgnl Jetport | 1/1352 | 7/22/21 | LOC RWY 5, Orig-A.
4-Nov-21 | LA | De Ridder | Beauregard Rgnl | 1/1385 | 7/19/21 | RNAV (GPS) RWY 36, Amdt 1A.
4-Nov-21 | LA | De Ridder | Beauregard Rgnl | 1/1387 | 7/19/21 | RNAV (GPS) RWY 18, Orig-A.
4-Nov-21 | LA | De Ridder | Beauregard Rgnl | 1/1388 | 7/19/21 | NDB RWY 36, Amdt 5A.
4-Nov-21 | LA | De Ridder | Beauregard Rgnl | 1/1389 | 7/19/21 | LOC RWY 36, Amdt 3A.
4-Nov-21 | WA | Friday Harbor | Friday Harbor | 1/1414 | 6/14/21 | RNAV (GPS) RWY 34, Amdt 2A.
4-Nov-21 | WA | Friday Harbor | Friday Harbor | 1/1415 | 6/14/21 | NDB RWY 34, Amdt 2.
4-Nov-21 | IA | Cedar Rapids | The Eastern Iowa | 1/1421 | 7/20/21 | RNAV (GPS) RWY 9, Amdt 2C.
4-Nov-21 | IA | Cedar Rapids | The Eastern Iowa | 1/1424 | 7/20/21 | RNAV (GPS) RWY 27, Amdt 1A.
4-Nov-21 | IA | Cedar Rapids | The Eastern Iowa | 1/1425 | 7/20/21 | ILS OR LOC RWY 27, Amdt 6G.
4-Nov-21 | TN | Millington | Charles W Baker | 1/1426 | 7/22/21 | RNAV (GPS) RWY 36, Orig-A.
4-Nov-21 | PA | Myerstown | Deck | 1/1431 | 7/22/21 | VOR/DME OR GPS-A, Amdt 1D.
4-Nov-21 | AZ | Scottsdale | Scottsdale | 1/1494 | 6/14/21 | VOR/DME-A, Amdt 3.
4-Nov-21 | AZ | Scottsdale | Scottsdale | 1/1496 | 6/14/21 | RNAV (GPS)-E, Amdt 1.
4-Nov-21 | AZ | Scottsdale | Scottsdale | 1/1497 | 6/14/21 | RNAV (GPS)-D, Amdt 1.
4-Nov-21 | TX | Jacksonville | Cherokee County | 1/2329 | 7/19/21 | RNAV (GPS) RWY 14, Amdt 1A.
4-Nov-21 | TX | Jacksonville | Cherokee County | 1/2332 | 7/19/21 | RNAV (GPS) RWY 32, Orig-A.
4-Nov-21 | TX | Jacksonville | Cherokee County | 1/2333 | 7/19/21 | VOR RWY 14, Amdt 4B.
4-Nov-21 | OR | Tillamook | Tillamook | 1/2462 | 6/15/21 | RNAV (GPS) RWY 13, Orig-C.
4-Nov-21 | PA | Mifflintown | Mifflintown | 1/2562 | 9/1/21 | RNAV (GPS) RWY 26, Orig-A.
4-Nov-21 | WY | Pinedale | Ralph Wenz Fld | 1/2601 | 7/20/21 | RNAV (GPS) RWY 11, Amdt 2A.
4-Nov-21 | WY | Pinedale | Ralph Wenz Fld | 1/2603 | 7/20/21 | RNAV (GPS) RWY 29, Amdt 2A.
4-Nov-21 | WY | Pinedale | Ralph Wenz Fld | 1/2607 | 7/20/21 | NDB-A, Orig-A.
4-Nov-21 | AZ | Nogales | Nogales Intl | 1/2615 | 7/1/21 | VOR/DME OR GPS-B, Amdt 2C.
4-Nov-21 | AL | Eufaula | Weedon Fld | 1/2810 | 7/26/21 | RNAV (GPS) RWY 18, Amdt 1A.
4-Nov-21 | AL | Eufaula | Weedon Fld | 1/2813 | 7/26/21 | RNAV (GPS) RWY 36, Amdt 1A.
4-Nov-21 | AL | Eufaula | Weedon Fld | 1/2815 | 7/26/21 | VOR RWY 18, Amdt 8A.
4-Nov-21 | AL | Eufaula | Weedon Fld | 1/2819 | 7/26/21 | VOR/DME RWY 36, Amdt 3A.
4-Nov-21 | FL | Sarasota/Bradenton | Sarasota/Bradenton Intl | 1/3100 | 7/22/21 | VOR RWY 14, Amdt 18C.
4-Nov-21 | FL | Sarasota/Bradenton | Sarasota/Bradenton Intl | 1/3101 | 7/22/21 | RNAV (GPS) RWY 32, Amdt 3C.
4-Nov-21 | FL | Sarasota/Bradenton | Sarasota/Bradenton Intl | 1/3102 | 7/22/21 | RNAV (GPS) RWY 22, Amdt 2C.
4-Nov-21 | FL | Sarasota/Bradenton | Sarasota/Bradenton Intl | 1/3103 | 7/22/21 | RNAV (GPS) RWY 14, Amdt 3C.
4-Nov-21 | FL | Sarasota/Bradenton | Sarasota/Bradenton Intl | 1/3104 | 7/22/21 | RNAV (GPS) RWY 4, Amdt 2D.
4-Nov-21 | FL | Sarasota/Bradenton | Sarasota/Bradenton Intl | 1/3106 | 7/22/21 | ILS OR LOC RWY 32, Amdt 8C.
4-Nov-21 | FL | Sarasota/Bradenton | Sarasota/Bradenton Intl | 1/3107 | 7/22/21 | ILS OR LOC RWY 14, Amdt 6C.
4-Nov-21 | GA | Camilla | Camilla-Mitchell County | 1/3120 | 7/22/21 | RNAV (GPS) RWY 26, Amdt 1B.
4-Nov-21 | GA | Camilla | Camilla-Mitchell County | 1/3121 | 7/22/21 | RNAV (GPS) RWY 8, Amdt 1A.
4-Nov-21 | PA | Monongahela | Rostraver | 1/3126 | 7/22/21 | RNAV (GPS) RWY 8, Amdt 1A.
4-Nov-21 | PA | Monongahela | Rostraver | 1/3127 | 7/22/21 | RNAV (GPS) RWY 26, Orig-C.
4-Nov-21 | WA | Omak | Omak | 1/3338 | 6/25/21 | GPS RWY 35, Orig.
4-Nov-21 | VA | Moneta | Smith Mountain Lake | 1/3934 | 8/24/21 | RNAV (GPS) RWY 23, Orig-C.
4-Nov-21 | IL | Paxton | Paxton | 1/4506 | 7/20/21 | RNAV (GPS) RWY 18, Orig-A.
4-Nov-21 | IL | Paxton | Paxton | 1/4507 | 7/20/21 | VOR RWY 18, Amdt 2A.
4-Nov-21 | MN | Moose Lake | Moose Lake Carlton County | 1/5028 | 8/12/21 | RNAV (GPS) RWY 4, Orig-A.
4-Nov-21 | MN | Maple Lake | Maple Lake Muni-Bill Mavencamp Sr Fld | 1/5030 | 8/12/21 | VOR-A, Amdt 4B.
4-Nov-21 | GA | Cartersville | Cartersville | 1/5032 | 8/16/21 | VOR-A, Amdt 2C.
4-Nov-21 | GA | Cartersville | Cartersville | 1/5033 | 8/16/21 | RNAV (GPS) RWY 19, Amdt 1B.
4-Nov-21 | GA | Cartersville | Cartersville | 1/5034 | 8/16/21 | RNAV (GPS) RWY 1, Amdt 1B.
4-Nov-21 | ME | Oxford | Oxford County Rgnl | 1/5036 | 8/26/21 | RNAV (GPS) RWY 33, Orig-C.
4-Nov-21 | OR | Sunriver | Sunriver | 1/5042 | 8/13/21 | RNAV (GPS) RWY 18, Orig-D.
4-Nov-21 | MI | Marshall | Brooks Fld | 1/5077 | 7/20/21 | RNAV (GPS) RWY 28, Orig-B.
4-Nov-21 | MI | Marshall | Brooks Fld | 1/5089 | 7/20/21 | VOR/DME-A, Orig-A.
4-Nov-21 | KS | Russell | Russell Muni | 1/5093 | 7/20/21 | VOR/DME-A, Amdt 5A.
4-Nov-21 | KS | Russell | Russell Muni | 1/5094 | 7/20/21 | RNAV (GPS) RWY 17, Orig-A.
4-Nov-21 | KS | Russell | Russell Muni | 1/5096 | 7/20/21 | RNAV (GPS) RWY 35, Orig-A.
4-Nov-21 | CA | Hemet | Hemet-Ryan | 1/5569 | 6/25/21 | RNAV (GPS) RWY 5, Orig-D.
4-Nov-21 | OH | Barnesville | Barnesville-Bradfield | 1/5570 | 7/22/21 | VOR/DME RWY 27, Orig-B.
4-Nov-21 | GA | Madison | Madison Muni | 1/5627 | 7/22/21 | VOR/DME-A, Amdt 8A.
4-Nov-21 | GA | Madison | Madison Muni | 1/5628 | 7/22/21 | RNAV (GPS) RWY 14, Orig-A.
4-Nov-21 | AL | Fort Payne | Isbell Fld | 1/5916 | 9/1/21 | RNAV (GPS) RWY 4, Orig-A.
4-Nov-21 | AL | Fort Payne | Isbell Fld | 1/5917 | 9/1/21 | RNAV (GPS) Y RWY 22, Orig-A.
4-Nov-21 | CA | Oxnard | Oxnard | 1/6006 | 8/27/21 | ILS OR LOC RWY 25, Amdt 13C.
4-Nov-21 | CA | Oxnard | Oxnard | 1/6011 | 8/27/21 | RNAV (GPS) RWY 7, Amdt 1A.
4-Nov-21 | CA | Oxnard | Oxnard | 1/6012 | 8/27/21 | RNAV (GPS) RWY 25, Amdt 1B.
4-Nov-21 | CA | Oxnard | Oxnard | 1/6013 | 8/27/21 | VOR RWY 25, Amdt 10C.
4-Nov-21 | TN | Copperhill | Martin Campbell Fld | 1/6400 | 7/22/21 | RNAV (GPS) RWY 2, Orig-A.
4-Nov-21 | NC | Roxboro | Raleigh Rgnl At Person County | 1/6725 | 8/16/21 | RNAV (GPS) RWY 24, Orig-C.
4-Nov-21 | NC | Roxboro | Raleigh Rgnl At Person County | 1/6726 | 8/16/21 | RNAV (GPS) RWY 6, Orig-B.
4-Nov-21 | NC | Roxboro | Raleigh Rgnl At Person County | 1/6727 | 8/16/21 | ILS OR LOC RWY 6, Amdt 1C.
4-Nov-21 | RI | Newport | Newport State | 1/6899 | 9/1/21 | LOC RWY 22, Amdt 7E.
4-Nov-21 | RI | Newport | Newport State | 1/6900 | 9/1/21 | RNAV (GPS) RWY 16, Orig-C.
4-Nov-21 | RI | Newport | Newport State | 1/6901 | 9/1/21 | VOR/DME RWY 16, Amdt 1C.
4-Nov-21 | MA | Gardner | Gardner Muni | 1/6997 | 7/22/21 | VOR-A, Amdt 6A.
4-Nov-21 | MA | Gardner | Gardner Muni | 1/6998 | 7/22/21 | RNAV (GPS)-B, Orig-B.
4-Nov-21 | TX | San Antonio | San Antonio Intl | 1/7447 | 8/16/21 | ILS OR LOC RWY 13R, Amdt 14C.
4-Nov-21 | TX | San Antonio | San Antonio Intl | 1/7448 | 8/16/21 | ILS OR LOC RWY 31L, Amdt 10C.
4-Nov-21 | TX | San Antonio | San Antonio Intl | 1/7449 | 8/16/21 | RNAV (GPS) Y RWY 31L, Amdt 1B.
4-Nov-21 | TX | San Antonio | San Antonio Intl | 1/7451 | 8/16/21 | ILS OR LOC RWY 4, Amdt 22B.
4-Nov-21 | TX | San Antonio | San Antonio Intl | 1/7453 | 8/16/21 | RNAV (GPS) Y RWY 22, Amdt 2B.
4-Nov-21 | TX | San Antonio | San Antonio Intl | 1/7454 | 8/16/21 | RNAV (GPS) Y RWY 4, Amdt 3B.
4-Nov-21 | TX | Weatherford | Parker County | 1/7668 | 7/30/21 | VOR/DME-A, Orig-A.
4-Nov-21 | WI | Watertown | Watertown Muni | 1/8241 | 7/19/21 | NDB RWY 5, Amdt 1E.
4-Nov-21 | WI | Watertown | Watertown Muni | 1/8242 | 7/19/21 | NDB RWY 23, Amdt 2A.
4-Nov-21 | WI | Watertown | Watertown Muni | 1/8244 | 7/19/21 | RNAV (GPS) RWY 5, Orig-A.
4-Nov-21 | WI | Watertown | Watertown Muni | 1/8245 | 7/19/21 | RNAV (GPS) RWY 11, Orig-A.
4-Nov-21 | WI | Watertown | Watertown Muni | 1/8246 | 7/19/21 | RNAV (GPS) RWY 23, Orig-A.
4-Nov-21 | WI | Watertown | Watertown Muni | 1/8247 | 7/19/21 | RNAV (GPS) RWY 29, Orig-A.
4-Nov-21 | TX | Stamford | Arledge Fld | 1/8265 | 9/1/21 | RNAV (GPS) RWY 17, Orig-A.
4-Nov-21 | TX | Stamford | Arledge Fld | 1/8267 | 9/1/21 | RNAV (GPS) RWY 35, Orig-A.
4-Nov-21 | IA | Sheldon | Sheldon Rgnl | 1/8276 | 9/1/21 | RNAV (GPS) RWY 33, Amdt 1D.
4-Nov-21 | WI | Milwaukee | Lawrence J Timmerman | 1/8285 | 7/19/21 | LOC RWY 15L, Amdt 6D.
4-Nov-21 | WI | Milwaukee | Lawrence J Timmerman | 1/8286 | 7/19/21 | RNAV (GPS) RWY 4L, Orig-C.
4-Nov-21 | WI | Milwaukee | Lawrence J Timmerman | 1/8289 | 7/19/21 | RNAV (GPS) RWY 15L, Orig-D.
4-Nov-21 | WI | Milwaukee | Lawrence J Timmerman | 1/8291 | 7/19/21 | RNAV (GPS) RWY 22R, Orig-E.
4-Nov-21 | TX | Fort Stockton | Fort Stockton-Pecos County | 1/8309 | 7/19/21 | RNAV (GPS) RWY 12, Amdt 1B.
4-Nov-21 | TX | Fort Stockton | Fort Stockton-Pecos County | 1/8310 | 7/19/21 | RNAV (GPS) RWY 30, Amdt 1A.
4-Nov-21 | TX | Fort Stockton | Fort Stockton-Pecos County | 1/8311 | 7/19/21 | VOR RWY 12, Amdt 8B.
4-Nov-21 | PA | Erie | Erie Intl/Tom Ridge Fld | 1/8422 | 9/7/21 | RNAV (GPS) RWY 6, Amdt 1B.
4-Nov-21 | PA | Erie | Erie Intl/Tom Ridge Fld | 1/8423 | 9/7/21 | RNAV (GPS) RWY 24, Amdt 1A.
4-Nov-21 | GA | Montezuma | Dr C P Savage Sr | 1/8507 | 7/22/21 | RNAV (GPS) RWY 18, Orig-B.
4-Nov-21 | NE | Tekamah | Tekamah Muni | 1/8581 | 9/2/21 | RNAV (GPS) RWY 33, Amdt 1.
4-Nov-21 | PA | Franklin | Venango Rgnl | 1/8785 | 7/22/21 | ILS OR LOC RWY 21, Amdt 6B.
4-Nov-21 | PA | Franklin | Venango Rgnl | 1/8786 | 7/22/21 | RNAV (GPS) RWY 21, Amdt 1B.
4-Nov-21 | PA | Franklin | Venango Rgnl | 1/8790 | 7/22/21 | RNAV (GPS) RWY 3, Amdt 1C.
4-Nov-21 | PA | Franklin | Venango Rgnl | 1/8791 | 7/22/21 | VOR RWY 21, Amdt 8B.
4-Nov-21 | WI | Oconto | Oconto-J Douglas Bake Muni | 1/8999 | 7/20/21 | RNAV (GPS) RWY 29, Orig-A.
4-Nov-21 | WI | Oconto | Oconto-J Douglas Bake Muni | 1/9000 | 7/20/21 | RNAV (GPS) RWY 11, Orig-A.
4-Nov-21 | AZ | Winslow | Winslow-Lindbergh Rgnl | 1/9049 | 6/25/21 | VOR OR GPS RWY 11, Amdt 4C.
4-Nov-21 | IA | Mount Pleasant | Mount Pleasant Muni | 1/9054 | 7/20/21 | RNAV (GPS) RWY 15, Orig-A.
4-Nov-21 | IA | Mount Pleasant | Mount Pleasant Muni | 1/9055 | 7/20/21 | RNAV (GPS) RWY 33, Orig-A.
4-Nov-21 | TX | Mexia | Mexia-Limestone County | 1/9066 | 7/20/21 | NDB-A, Amdt 4A.
4-Nov-21 | TX | Mexia | Mexia-Limestone County | 1/9067 | 7/20/21 | RNAV (GPS) RWY 36, Orig-B.
4-Nov-21 | TN | Livingston | Livingston Muni | 1/9217 | 9/1/21 | RNAV (GPS) RWY 21, Amdt 1A.
4-Nov-21 | TN | Livingston | Livingston Muni | 1/9218 | 9/1/21 | RNAV (GPS) RWY 3, Amdt 1C.
4-Nov-21 | TN | Livingston | Livingston Muni | 1/9219 | 9/1/21 | VOR/DME RWY 21, Amdt 5C.
4-Nov-21 | MS | Lexington | C A Moore | 1/9371 | 7/22/21 | VOR/DME OR GPS-A, Orig-B.
4-Nov-21 | AR | Decatur | Crystal Lake | 1/9396 | 8/3/21 | RNAV (GPS) RWY 13, Orig-A.
4-Nov-21 | WY | Torrington | Torrington Muni | 1/9401 | 8/6/21 | GPS RWY 28, Orig-D.
4-Nov-21 | WY | Torrington | Torrington Muni | 1/9404 | 8/6/21 | GPS RWY 10, Orig-D.
4-Nov-21 | WY | Torrington | Torrington Muni | 1/9409 | 8/6/21 | NDB RWY 28, Amdt 2B.
4-Nov-21 | MS | Booneville/Baldwyn | Booneville/Baldwyn | 1/9575 | 7/22/21 | VOR-A, AMDT 1A.
4-Nov-21 | WI | Lake Geneva | Grand Geneva Resort | 1/9585 | 7/15/21 | RNAV (GPS) RWY 23, Orig-B.
4-Nov-21 | OK | Hobart | Hobart Rgnl | 1/9948 | 7/20/21 | RNAV (GPS) RWY 35, Amdt 2.
4-Nov-21 | OK | Hobart | Hobart Rgnl | 1/9949 | 7/20/21 | VOR RWY 35, Amdt 9.
4-Nov-21 | OK | Hobart | Hobart Rgnl | 1/9950 | 7/20/21 | RNAV (GPS) RWY 17, Amdt 2.
4-Nov-21 | KY | Georgetown | Georgetown-Scott County Rgnl | 1/9973 | 7/22/21 | VOR RWY 3, Amdt 1A.
4-Nov-21 | KY | Georgetown | Georgetown-Scott County Rgnl | 1/9974 | 7/22/21 | RNAV (GPS) Y RWY 21, Orig-A.
4-Nov-21 | KY | Georgetown | Georgetown-Scott County Rgnl | 1/9975 | 7/22/21 | RNAV (GPS) RWY 3, Amdt 2A.
4-Nov-21 | KY | Georgetown | Georgetown-Scott County Rgnl | 1/9977 | 7/22/21 | RNAV (GPS) Z RWY 21, Amdt 2A.

[FR Doc. 2021-21470 Filed 10-1-21; 8:45 am]

BILLING CODE 4910-13-P